DEPARTMENT OF TRANSPORTATION

Coast Guard

33 CFR Part 165

CGD09-01-116

RIN 2115-AA97

Safety Zones; Port Huron Tall Ship Celebration, St. Clair River, MI

AGENCY: Coast Guard, DOT.

ACTION: Temporary final rule.

SUMMARY: The Coast Guard is establishing individual temporary moving safety zones around the sailing vessels Norfolk Rebel, Cape Rose, Larinda, Highlander Sea, Pride of Baltimore II, for the “Port Huron Parade of Tall Ships” on August 30, 2001. These safety zones are necessary to promote the safe navigation of vessels and the safety of life and property during the periods of heavy vessel traffic expected during this event. These safety zones are intended to restrict vessel traffic from a portion of Lake Huron and the St. Clair River.

DATES: This temporary final rule is effective from 5 p.m. until 7 p.m. on August 30, 2001.

ADDRESSES: Comments and material received from the public, as well as documents indicated in this preamble as being available in the docket, are part of docket CGD09-01-116 and are available for inspection or copying at: U.S. Coast Guard Marine Safety Office Detroit, 110 Mt. Elliott Ave. Detroit, MI 48207, between 8 a.m. and 4 p.m., Monday through Friday, except Federal holidays.

FOR FURTHER INFORMATION CONTACT: ENS Brandon Sullivan, U.S. Coast Guard Marine Safety Office Detroit, 110 Mt. Elliott Ave. Detroit, MI 48207. The telephone number is (313) 568-9558.

SUPPLEMENTARY INFORMATION:

Regulatory Information

We did not publish a notice of proposed rulemaking (NPRM) for this regulation. Under 5 U.S.C. 553(b)(B), the Coast Guard finds that good cause exists for not publishing an NPRM. Under 5 U.S.C. 553(d)(3), the Coast Guard finds that good cause exists for making this rule effective less than 30 days after publication in the Federal Register. The permit application was not received in time to publish an NPRM followed by a final rule before the effective date. Delaying this rule would be contrary to the public interest of ensuring the safety of spectators and vessels during this event and immediate action is necessary to prevent possible loss of life or property.

Background and Purpose

This temporary final rule is for the Port Huron tall ship visit to be held in Port Huron. There will be individual temporary moving safety zones around the sailing vessels, Norfolk Rebel, Cape Rose, Larinda, Highlander Sea, Pride of Baltimore II, which will be officially participating in the parade, to ensure the safety of passengers, crew, and spectators. The moving safety zones will encompass all waters 100 yards ahead, 100 yards behind, and 50 yards on either side of each of the tall ships.

These moving safety zones will be enforced from the north starting point at Lake Huron Cut Light #7, Light List number (LLN) 10065, in position 43°03′36″ N, 082°25′06″ W and continuing south to the Port Huron Terminal, in position 42°57′32″ N, 082°25′38″ W. These coordinates are based upon North American Datum 1983 (NAD 83).

These safety zones are necessary to control vessel movement and to ensure the safety of the public and vessels during the Tall Ships Parade of Sail occurring in a portion of Lake Huron and the St. Clair River. In order to minimize adverse impacts on commercial users of the affected waterway, we are enacting individual moving safety zones around each tall ship in lieu of a blanket safety zone for the entire U.S. portion of Lake Huron and the St. Clair River.

All persons and vessels shall comply with the instructions of the Coast Guard Captain of the Port Detroit or his designated on-scene patrol representative. Entry into, transiting, or anchoring within the safety zones is prohibited unless authorized by the Captain of the Port Detroit or his designated on-scene representative. The Captain of the Port Detroit or his designated on-scene representative may be contacted via VHF Channel 16.

Regulatory Evaluation

This rule is not a “significant regulatory action” under section 3(f) of Executive Order 12866 and does not require an assessment of potential costs and benefits under section 6(a)(3) of that order. The Office of Management and Budget has not reviewed this rule under that order. It is not “significant” under the regulatory policies and procedures of the Department of Transportation (DOT) (44 FR 11040, February 26, 1979). We expect the economic impact of this rule to be so minimal that a full Regulatory Evaluation under paragraph 10(e) of the regulatory policies and procedures of DOT is unnecessary.

This determination is based on the minimal time, two hours, that vessels will be restricted from the zones, and therefore will cause only minor if any impacts to mariners.

Small Entities

Under the Regulatory Flexibility Act, (5 U.S.C. 601-612), we considered whether this rule would have a significant impact on a substantial number of small entities. The term “small entities” comprises small businesses, not-for-profit organizations that are independently owned and operated and are not dominant in their fields, and governmental jurisdictions with populations of less than 50,000.

The Coast Guard certifies under 5 U.S.C. 605(b) that this rule would not have a significant economic impact on a substantial number of small entities.

This rule would affect the following entities, some of which might be small entities: the owners or operators of commercial vessels intending to transit or anchor in a portion of an activated safety zone.

These moving safety zones will not have a significant economic impact on a substantial number of small entities for the following reasons: the safety zones are only in effect from 5 p.m. until 7 p.m. and vessel traffic may safely pass outside the safety zones during the event. Before the effective period, we will issue maritime advisories widely available to users of Lake Huron and the St. Clair River by the Ninth Coast Guard District Local Notice to Mariners, and Marine Information Broadcasts. Facsimile broadcasts may also be made.

If you think that your business, organization, or governmental jurisdiction qualifies as a small entity and that this rule would have a significant economic impact on it, please submit a comment (see ADDRESSES) explaining why you think it qualifies and how and to what degree this rule would economically affect it.

Assistance for Small Entities

Under section 213(a) of the “Small Business Regulatory Enforcement Fairness Act”, of 1996 (Public Law 104-121), we want to assist small entities in understanding this rule so that they can better evaluate its effects and participate in the rulemaking process. If the rule would affect your small business, organization, or governmental jurisdiction and you have questions concerning its provisions or options for compliance, please contact Marine Safety Office Detroit (see ADDRESSES.)

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule would call for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule would not result in such an expenditure, we do discuss the effects of this rule elsewhere in this preamble.

Taking of Private Property

This rule would not affect a taking of private property or otherwise have taking implications under Executive Order 12630, Governmental Actions and Interference with Constitutionally Protected Property Rights.

Civil Justice Reform

This rule meets the applicable standards in sections 3(a) and 3(b)(2) of Executive Order 12988, Civil Justice Reform, to minimize litigation, eliminate ambiguity, and reduce burden.

Protection of Children

The Coast Guard has analyzed this rule under Executive Order 13045, Protection of Children from Environmental Health Risks and Safety Risks. This rule is not an economically significant rule and does not concern an environmental risk to health or risk to safety that may disproportionately affect children.

Environment

We have considered the environmental impact of this rule and concluded that, under figure 2-1, paragraph 34(g) of Commandant Instruction M16475.1C, this rule is categorically excluded from further environmental documentation. A written categorical exclusion determination is available in the docket for inspection or copying where indicated under ADDRESSES.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action.

List of Subjects in 33 CFR Part 165

Harbors, Marine Safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. A new temporary § 165.T09-993 is added to read as follows:

§ 165.T09-993 Safety Zones; Port Huron Tall Ship Celebration, St. Clair River, MI.

(a) Location. The Coast Guard will establish temporary moving safety zones that will encompass all waters 100 yards ahead, 100 yards behind, and 50 yards on either side of the sailing vessels, Norfolk Rebel, Cape Rose, Larinda, Highlander Sea, Pride of Baltimore II, which will be participating in the Port Huron Parade of Tall Ships. These individual temporary moving safety zones will ensure safe navigation of vessels officially participating in the parade. The moving safety zones will be enforced from the north starting point at Lake Huron Cut Light #7 (LLN 10065), in position 43°03′36″ N, 082°25′06″ W, and to the south, ending at Port Huron Terminal, in position 42°57′32″ N, 082°25′38″ W. These coordinates are based upon North American Datum 1983 (NAD 83).

(b) Effective time and date. This section is effective 5 p.m. until 7 p.m. on August 30, 2001. The designated on-scene Patrol Commander may be contacted via VHF Channel 16.

(c) Regulations. In accordance with the general regulations in § 165.23 of this part, entry into the safety zones is prohibited unless authorized by the Coast Guard Captain of the Port Detroit, or his designated on-scene representative.

Dated: August 24, 2001.
P.G. Gerrity,
Commander, U.S. Coast Guard, Captain of the Port Detroit.

[FR Doc. 01-21957 Filed 8-29-01; 8:45 am]

BILLING CODE 4910-15-P